DEPARTMENT OF AGRICULTURE

Forest Service

Bitterroot National Forest, Darby Ranger District, Como Forest Health Project

AGENCY: Forest Service, USDA.

ACTION: Notice of intent to prepare an environmental impact statement.

SUMMARY: The USDA Forest Service, Bitterroot National Forest will prepare an environmental impact statement (EIS) to document and disclose the effects analysis of the proposed Como Forest Health Project (Como FHP). The Como FHP covers approximately 5,640 acres of national forest land between Lake Como and Lost Horse Roads, about XX miles northwest of Darby in Ravalli County, Montana. The purpose of the Como FHP is to (1) reduce potential mortality of large diameter ponderosa pine caused by increasing mountain pine beetle populations; (2) reduce fuel loads and maintain the historic fire return interval; (3) improve forest resilience to dwarf mistletoe, root rot, Douglas-fir beetle, and spruce budworm; (4) and maintain the visual integrity of the larger Lake Como Recreation Area. Commercial harvest is proposed on about 1,860 acres, pre-commercial thinning on about 330 acres, and prescribed fire on about 3,000 acres to achieve the purposes of the Como FHP. Three sections of road totaling about 0.8 of a mile are proposed for construction to support the timber harvest. The roads would be closed after timber operations. Site-specific Bitterroot National Forest Plan amendments may be proposed for coarse woody debris, snags, elk habitat effectiveness, thermal cover, old growth, and visual quality.

DATES: Comments concerning the scope of the analysis must be received by July 17, 2013. The draft environmental impact statement is expected December 2013 and the final environmental impact statement is expected July 2014.

ADDRESSES: Send written comments to Chuck Oliver, Darby District Ranger, P.O. Box 388, Darby, MT, 59829. Comments may also be sent via email to comments-northern-bitterroot-darby@fs.fed.us, or via facsimile to 406-821-4264.

FOR FURTHER INFORMATION CONTACT: Sara Grove, South Zone Interdisciplinary Team Leader; West Fork Ranger Station; 6735 West Fork Road; Darby, Montana 59829; phone (406) 821-1251; email sgrove@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The Como Forest Health project (Como FHP) is proposed to manage the forest in the 5,640 acre project area to: (1) Reduce potential mountain pine beetle-caused tree mortality in large diameter ponderosa pine, (2) reduce fuel loads and maintain the historic fire return interval, (3) improve the forest resilience to native insects and diseases, and (4) maintain the visual integrity of the larger Lake Como Recreation Area. Mountain pine beetle populations are increasing across the Bitterroot National Forest and in this popular recreation area. Decreasing forest density and maintaining the historic fire return interval would preserve the large diameter ponderosa pine characteristic of this forest type, improve general forest resilience to natural disturbances (native insects, diseases, and fire), and maintain the aesthetics of the larger recreation area. Because the project area is in and adjacent to the popular Lake Como recreation area, visual integrity standards would be a focus of project design during and after treatments.

Proposed Action

The Darby District Ranger on the Bitterroot National Forest proposes to treat 5,190 acres of forest in the 5,640-acre Lake Como Forest Health project area. The Como Forest Health project area lies between Lake Como Road and Lost Horse Road, about three miles northwest of Darby, Montana (R22W,T4N, Sec. 13, 24, 25, 36; R21W,T4N, Sec 17-21, 28-31). Treatments include commercial timber harvest on 1,860 acres, small tree thinning on 330 acres, and low to moderate severity prescribed fires on about 3,000 acres.

To support timber harvest, three sections of road totaling 0.8 mile would need to be constructed and added to the National Forest System of Roads. These road sections are needed now and in the future to access Unit 41 and units in a recent acquisition to the forest. In addition to the new system road segments, the use of 2.3 miles of temporary road and 3.5 miles of tracked line machine trail would be needed to yard timber from the cutting units. The new system road would be closed, and the temporary road and tracked line machine trail would be obliterated following harvest. Another 0.5 mile of forest road would be converted to a non-motorized trail. Approximately six miles of undetermined roads exist in the project area. About three miles of these roads are needed to haul timber from the sale area and for future management of the national forest. These roads would be added to the Bitterroot National Forest System of Roads database and closed until needed for forest management. The remaining three miles of undetermined roads not needed for future national forest management would be obliterated by full or partial recontouring.

Possible Alternatives

Two alternatives to the proposed action have been identified. One alternative would treat units that are accessible with the existing road system. No new system roads or temporary roads would be constructed and tracked line machine trail would not be developed. The second alternative to the proposed action would address potential conflicts by focusing on forest plan objectives for wildlife habitat and visual quality in management areas 2, 3a, 3b, and 3c.

Another alternative that would not require any forest plan amendments was considered. It will not be carried through the analysis because existing conditions in the project area do not meet forest plan standards and there are no management actions that can create conditions to meet forest plan standards.

Responsible Official

Julie K. King, Bitterroot National Forest Supervisor, 1801 N. First, Hamilton, Montana 59840-3114.

Nature of Decision To Be Made

The Responsible Official will select the proposed action, an alternative to the proposed action (including the no action alternative), or modify the proposed action or alternatives to the proposed action. The decision may include amendments to the Bitterroot National Forest Plan standards for coarse woody debris, visual quality objectives, old growth, and thermal and hiding cover.

Preliminary Issues

Scoping was initiated in November 2010 and restarted in February 2013. Issues identified through these scoping processes include: (1) Road management; (2) balancing forest management practices with recreation, visual quality, wildlife, fisheries, hydrology, and fire management; (3) economics of timber harvest; and (4) the effects and costs of obliterating roads.

Scoping Process

This notice of intent initiates the scoping process, which guides the development of the environmental impact statement.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however, anonymous comments will not provide the Agency with the ability to provide the respondent with subsequent environmental documents.

Dated: June 3, 2013.
Julie K. King,
Forest Supervisor.

[FR Doc. 2013-14229 Filed 6-14-13; 8:45 am]

BILLING CODE 3410-11-P